DEPARTMENT OF EDUCATION

[Docket No.: ED-2013-ICCD-0044]

Agency Information Collection Activities; Submission to the Office of Management and Budget for Review and Approval; Comment Request; Postsecondary Education Quick Information System (PEQIS) 19: Services and Support Programs for Military Service Members and Veterans 2012-2013

AGENCY: Department of Education (ED), Institute of Education Sciences/National Center for Education Statistics (IES).

ACTION: Notice.

SUMMARY: In accordance with the Paperwork Reduction Act of 1995 (44 U.S.C. chapter 3501 et seq.), ED is proposing a new information collection.

DATES: Interested persons are invited to submit comments on or before May 13, 2013.

ADDRESSES: Comments submitted in response to this notice should be submitted electronically through the Federal eRulemaking Portal at http://www.regulations.gov by selecting Docket ID number ED-2013-ICCD-0044 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E105, Washington, DC 20202-4537.

FOR FURTHER INFORMATION CONTACT: Electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Postsecondary Education Quick Information System (PEQIS) 19: Services and Support Programs for Military Service Members and Veterans 2012-2013.

OMB Control Number: 1850-0733.

Type of Review: New collection.

Respondents/Affected Public: Private Sector.

Total Estimated Number of Annual Responses: 4240.

Total Estimated Number of Annual Burden Hours: 953.

Abstract: The Postsecondary Education Quick Information System (PEQIS) collects issue-oriented data quickly and with minimum response burden outside of NCES' large recurring surveys. The system was designed to collect and report data on key education issues at the postsecondary level, and to meet the data needs of Department of Education analysts, planners, and decision-makers when information cannot be collected quickly through NCES's large recurring surveys. The purpose of this PEQIS # 19 survey is to collect national data on support programs and services for veterans and active-duty service members at postsecondary institutions. The survey will provide the first nationally representative data about the prevalence of various types of services and support programs for military service members and veterans, with a First Look report on the results to be released in 2014. This request is for a full scale PEQIS # 19 data collection.

Dated: April 4, 2013.
Stephanie Valentine,
Acting Director, Information Collection Clearance Division, Privacy, Information and Records Management Services, Office of Management.

[FR Doc. 2013-08401 Filed 4-10-13; 8:45 am]

BILLING CODE 4000-01-P